DEPARTMENT OF HEALTH AND HUMAN SERVICES

[CFDA Number: 93.085]

Office of Research Integrity; Awards Unsolicited Proposal for the Professionalism and Integrity in Research Program

AGENCY: Office of Research Integrity, Office of the Assistant Secretary for Health, Department of Health and Human Services.

ACTION: Notice of Award of a single-source unsolicited grant to Washington University in St. Louis, Missouri.

Recipient: Washington University, St. Louis, Missouri.

Purpose of the Award: Grant to provide remediation training through the Professionalism and Integrity in Research Program (PI Program) to promote research integrity and prevent research misconduct.

Amount of Award: $135,763 in Federal Fiscal Year (FFY) 2017 funds and estimated $135,665 in FFY 2018 funds subject to the enactment of appropriations and availability of funds.

Project Period: July 1, 2017—June 30, 2019.

SUMMARY: The Office of Research Integrity (ORI) announces the award of a single-source, grant in response to an unsolicited proposal from Washington University, St. Louis, Missouri. The proposal submitted was not solicited either formally or informally by any federal government official.

ORI performed an objective review of the unsolicited proposal from Washington University to expand and evaluate the Professionalism and Integrity in Research Program (PI Program), the only remediation program for researchers who violate expectations for the responsible conduct of research. Based on an external and internal review of the proposal, ORI determined that it has merit.

There is a strategic importance of access to this type of training. Research misconduct involving Public Health Service (PHS) support is contrary to the interests of PHS and the federal government, the health and safety of the public, the integrity of research, and the conservation of public funds. Participants in the PI Program will demonstrate better research compliance and integrity outcomes, such as developing better, more ethical research practices. These outcomes will promote research integrity and help prevent future research misconduct.

This award is being made non-competitively because there is no current, pending, or planned funding opportunity announcement under which this proposal could be competed. ORI has identified three additional key reasons to support rationale for awarding this unsolicited proposal:

1. ORI's federal regulation directs us to focus on remediation of Respondents who have been found to commit research misconduct, and the PI Program permits a pathway for that remediation after any sanctions have been completed.

2. Washington University is uniquely positioned to provide this type of training. As the only remediation program for researchers, the grantee has developed a comprehensive and intensive program that will improve research compliance and integrity outcomes.

3. With this experience, Washington University is well known in the research community and is an important service to PHS funded institutions. The program has a robust and unique process for assessment and data analysis.

Legislative Authority: Sec. 301 of the Public Health Service Act, 42 U.S.C. 241

FOR FURTHER INFORMATION CONTACT: Kathryn Partin at kathryn.partin@hhs.gov or by telephone at 240-453-8200.

Dated: June 13, 2017.
Kathryn M. Partin,
Director of the Office of Research Integrity.

[FR Doc. 2017-12747 Filed 6-19-17; 8:45 am]

BILLING CODE P